OFFICE OF PERSONNEL MANAGEMENT

[OMB Control No. 3206-0219; Form OF 612]

Proposed Information Collection: Request for Comments on an Existing Information Collection

AGENCY: U.S. Office of Personnel Management.

ACTION: Notice.

SUMMARY: In accordance with the Paperwork Reduction Act of 1995 (Pub. L. 104-13, May 22, 1995), this notice announces that the U.S. Office of Personnel Management (OPM) intends to submit to the Office of Management and Budget (OMB) a request for review of an existing information collection. This information collection occurs electronically via the “USAJOBS Resume Builder (online application)” or completion and submission via regular mail, e-mail, fax, or in person of OF 612 “Optional Form Application for Federal Employment” or a resume. The USAJOBS Resume Builder and the OF 612 both reflect the minimal critical elements collected across the Federal Government to assess an applicant's qualifications. The online application on USAJOBS captures the essential information Federal agencies require to evaluate applicants for Federal jobs under the authority of sections 1104, 1302, 3301, 3304, 3320, 3361 3393, and 3394 of Title 5 United States Code.

This notice also announces that the Office of Personnel Management (OPM) intends to submit to the Office of Management and Budget (OMB) a request to cancel the form, “Optional Form Application for Federal Employment (OF 612). The OF 612 has been used as an optional form to apply for Federal jobs. Applicants for Federal positions may also submit a resume as an alternative. The information contained in the OF 612 is incorporated in the USAJOBS Resume Builder on the USAJOBS Web site. Individual government agencies are responsible for indicating in the job announcement what minimal critical elements would be required in any job seeker's resume. Therefore, the need to maintain the OF 612 as the only alternative means of applying for Federal positions no longer exists. This action is being taken to facilitate a more seamless employment application process for both Federal agencies and job seekers.

Comments are particularly invited on whether this collection of information is necessary for the proper performance of functions of the Office of Personnel Management; and whether it is feasible to discontinue the use of the OF 612 as an alternate means of application; whether this information is necessary for the proper performance of functions of OPM, and whether it will have practical utility; whether our estimates of the public burden of this collection of information is accurate, and based on valid assumptions and methodology; and ways in which we can minimize the burden of the collection of information on those who are to respond, through the use of appropriate technological collection techniques or other forms of information technology.

We estimate over 50,125,000 applications will be completed annually using the electronic Resume Builder in the USAJOBS Web site.

The OF 612 and the USAJOBS Resume Builder take approximately 40 minutes to read and/or complete, depending on the amount of information the applicant wishes to include. The annual estimated burden is 33,082,500 hours.

For copies of this proposal, contact Willie Harrison by phone (202) 606-0106, by E-mail Willie.Harrison@opm.gov or by fax at (202) 606-1275. Please include a mailing address with your request.

DATES: Comments on this proposal should be received within 60 calendar days from the date of this publication.

ADDRESSES: Send or deliver comments to: U.S. Office of Personnel Management, USAJOBS Program Office, ATTN: Willie A. Harrison, U.S. Office of Personnel Management, 1900 E Street, NW., Room 2469J, Washington, DC 20415.

Howard Weizmann,
Deputy Director, U.S. Office of Personnel Management.

[FR Doc. E9-3996 Filed 2-24-09; 8:45 am]

BILLING CODE 6325-38-P